DEPARTMENT OF ENERGY

Federal Energy Regulatory Commission

[Docket No. RP01-494-001]

Dominion Transmission, Inc.; Notice of Compliance Filing

September 13, 2001.

Take notice that on September 6, 2001, Dominion Transmission, Inc. (“DTI”) filed as part of its FERC Gas Tariff, Third Revised Volume No. 1, the following tariff sheet, with an effective date of September 1, 2001:

Substitute First Revised Sheet No. 1162

DTI states that the purpose of this filing is to comply with the Commission's Letter Order issued August 30, 2001, in Docket No. RP01-494. That Letter Order approved DTI's tariff proposal to adopt the Texas Eastern policy subject to DTI filing a change to its proposed Section 25.2 of the General Terms and Conditions of its FERC Gas Tariff. The compliance filing makes the required change.

DTI states that copies of its letter of transmittal and enclosures are being mailed to its customers and to interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23389 Filed 9-19-01; 8:45 am]

BILLING CODE 6717-01-P